FEDERAL COMMUNICATIONS COMMISSION

47 CFR Part 73

[DA 04-3447; MB Docket No. 04-195, RM-10975; MB Docket No. 04-196, RM-10970; MB Docket No. 04-197, RM-10971; MB Docket No. 04-198, RM-10977; MB Docket No. 04-199, RM-10978; MB Docket No. 04-200, RM-10979]

Radio Broadcasting Services; Cross City, FL, Key Largo, FL, and McCall, ID

AGENCY: Federal Communications Commission.

ACTION: Final rule.

SUMMARY: This document grants six proposals allotting new channels to Cross City, Florida, Key Largo, Florida and McCall, Idaho. The Audio Division, at the request of Paul B. Christensen, allots Channel 249C3 at Cross City, Florida, as its second FM commercial aural transmission service. See 69 FR 34115, June 18, 2004. Channel 249C3 can be allotted to Cross City in compliance with the Commission's minimum distance separation requirements with a site restriction of 11.2 kilometers (6.9 miles) north to avoid a short-spacing to the license sites of Station WSKY-FM, Channel 247C2, Micanopy, Florida and FM Station WXTB, Channel 250C, Clearwater, Florida. The reference coordinates for Channel 249C3 at Cross City are 29-44-07 North Latitude and 83-08-42 West Longitude. See SUPPLEMENTARY INFORMATION, infra.

DATES: Effective December 13, 2004. The window period for filing applications for these allotments will not be opened at this time. Instead, the issue of opening these allotments for auction will be addressed by the Commission in a subsequent order.

ADDRESSES: Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, MB Docket Nos. 04-195, 04-196, 04-197, 04-198, 04-199, 04-200, adopted October 27, 2004 and released October 29, 2004. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or www.BCPIWEB.com. The Commission will send a copy of this Report and Order in a report to be sent to Congress and the General Accounting Office pursuant to the Congressional Review Act, see 5 U.S.C. 801(a)(1)(A).

The Audio Division, at the request of Paul B. Christensen, allots Channel 237C3 at Key Largo, Florida, as its second FM commercial aural transmission service. Channel 237C3 can be allotted to Key Largo in compliance with the Commission's minimum distance separation requirements at city reference coordinates. The reference coordinates for Channel 237C3 at Key Largo are 25-05-24 North Latitude and 80-26-36 West Longitude.

The Audio Division, at the request of McCall Broadcasting Company, allots Channel 228C3 at McCall, Idaho, as the community's third FM commercial aural transmission service. Channel 228C3 can be allotted to McCall in compliance with the Commission's minimum distance separation requirements at city reference coordinates. The reference coordinates for Channel 228C3 at McCall are 44-54-30 North Latitude and 116-06-00 West Longitude.

The Audio Division, at the request of Brundage Broadcasting Company, allots Channel 238C3 at McCall, Idaho, as the community's fourth FM commercial aural transmission service. Channel 238C3 can be allotted to McCall in compliance with the Commission's minimum distance separation requirements at city reference coordinates. The reference coordinates for Channel 238C3 at McCall are 44-54-30 North Latitude and 116-06-00 West Longitude.

The Audio Division, at the request of Long Valley Broadcasting Company, allots Channel 275C3 at McCall, Idaho, as the community's fifth FM commercial aural transmission service. Channel 275C3 can be allotted to McCall in compliance with the Commission's minimum distance separation requirements at city reference coordinates. The reference coordinates for Channel 275C3 at McCall are 44-54-30 North Latitude and 116-06-00 West Longitude.

The Audio Division, at the request of King's Pines Broadcasting Company, allots Channel 293C3 at McCall, Idaho, as the community's sixth FM commercial aural transmission service. Channel 293C3 can be allotted to McCall in compliance with the Commission's minimum distance separation requirements with a site restriction of 7.4 kilometers (4.6 miles) northeast of McCall. The reference coordinates for Channel 293C3 at McCall are 44-57-54 North Latitude and 116-03-00 West Longitude.

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Idaho, is amended by adding Channel 228C3, Channel 238C3, Channel 275C3, and Channel 293C3 at McCall.

3. Section 73.202(b), the Table of FM Allotments under Florida, is amended by adding Channel 249C3 at Cross City and Channel 237C3 at Key Largo.

Federal Communications Commission.
John A. Karousos,
Assistant Chief, Audio Division, Media Bureau.

[FR Doc. 04-25514 Filed 11-16-04; 8:45 am]

BILLING CODE 6712-01-P